SECURITIES AND EXCHANGE COMMISSION

[File No. 500-1]

In the Matter of Sure Trace Security Corporation; Order of Suspension of Trading

August 3, 2005.

It appears to the Securities and Exchange Commission (“Commission”) that there is a lack of current and accurate information concerning the joint ventures and contract negotiations of Sure Trace Security Corporation (“Sure Trace”). The securities of Sure Trace are quoted on the Pink Sheets under the symbol SSTY. Information has been provided to the Commission raising concerns as to the adequacy and accuracy of Sure Trace's publicly disseminated information concerning, among other things, the status of Sure Trace's negotiations to sell its technology to other entities.

The Commission is of the opinion that the public interest and the protection of investors require a suspension of trading in the securities of Sure Trace.

Therefore, it is ordered, pursuant to Section 12(k) of the Securities Exchange Act of 1934, that trading in the securities of Sure Trace is suspended for the period from 9:30 a.m. EDT, August 3, 2005, through 11:59 p.m. EDT, on August 16, 2005.

By the Commission.
Jonathan G. Katz,
Secretary.

[FR Doc. 05-15596 Filed 8-3-05; 11:36 am]

BILLING CODE 8010-01-P